NATIONAL SCIENCE FOUNDATION

Proposal Review Panel for Materials Research; Notice of Meeting

In accordance with the Federal Advisory Committee Act (Pub. L. 92-463 as amended), the National Science Foundation announces the following meeting:

Name: Proposal Review Panel for Materials Research (DMR) #1203.

Dates & Times: February 18, 2004; 7:30 a.m.-6 p.m. (open 10-12, 1-4:45). February 19, 2004; 8 a.m.-5 p.m. (open 9:30-11).

Place: University of California at Santa Barbara, CA.

Type of Meeting: Part open.

Contact Person: Dr. Thomas Riekier, Program Director, Materials Research Science and Engineering Centers, Division of Materials Research, Room 1065, National Science Foundation, 4201 Wilson Boulevard, Arlington, VA 22230, telephone (703) 292-4914.

Purpose of Meeting: To provide advice and recommendations concerning progress of Materials Research Science and Engineering Center for future funding decisions.

Agenda: February 18, 2004—Open to review and evaluate progress of Materials Research Science and Engineering Center.

Reason for Closing: The work being reviewed may include information; financial data, such as salaries and personal information concerning individuals associated with the proposals. These matters are exempt under 5 U.S.C. 552b(c), (4) and (6) of the Government in the Sunshine Act.

Dated: February 3, 2004.
Susanne Bolton,
Committee Management Officer.

[FR Doc. 04-2587 Filed 2-5-04; 8:45 am]

BILLING CODE 7555-01-M